DEPARTMENT OF COMMERCE

International Trade Administration

[C-570-011]

Crystalline Silicon Photovoltaic Products From the People's Republic of China: Rescission of Countervailing Duty Administrative Review; 2019

AGENCY: Enforcement and Compliance, International Trade Administration, Department of Commerce.

SUMMARY: The Department of Commerce (Commerce) is rescinding the administrative review of the countervailing duty order on crystalline silicon photovoltaic products (solar products) from the People's Republic of China (China) for the period of review (POR) January 1, 2019 through December 31, 2019, based on the timely withdrawal of the request for review.

DATES: Applicable August 6, 2020.

FOR FURTHER INFORMATION CONTACT: Gene Calvert, AD/CVD Operations, Office VII, Enforcement and Compliance, International Trade Administration, U.S. Department of Commerce, 14th Street and Constitution Avenue NW, Washington, DC 20230; telephone: (202) 482-3586.

SUPPLEMENTARY INFORMATION:

Background

On February 3, 2020, Commerce published the notice of opportunity to request an administrative review of the order on solar products from China for the POR of January 1, 2019 through December 31, 2019.¹ On February 28, 2020, Commerce received a timely-filed request from Maodi Solar Technology (Dongguan) Co., Ltd. (Moadi), an exporter of subject merchandise, with respect to their entries of subject merchandise during the POR.² Pursuant to this request and in accordance with 19 CFR 351.221(c)(1)(i), Commerce published a notice initiating an administrative review solely of Moadi.³ On April 2, 2020, Moadi withdrew its request for an administrative review.⁴

¹ See Antidumping or Countervailing Duty Order, Finding, or Suspended Investigation; Opportunity to Request Administrative Review, 85 FR 5938 (February 3, 2020).

² See Maodi's Letter, “Crystalline Silicon Photovoltaic Products From the People's Republic of China—Request for Administrative Review,” dated February 28, 2020.

³ See Initiation of Antidumping and Countervailing Duty Administrative Reviews, 85 FR 19730, 19741 (April 8, 2020).

⁴ See Moadi's Letter, “Crystalline Silicon Photovoltaic Products From the People's Republic of China—Withdrawal of Request for Administrative Review,” dated April 2, 2020.

Rescission of Review

Pursuant to 19 CFR 351.213(d)(1), the Department will rescind an administrative review, in whole or in part, if the party or parties that requested a review withdraws the request within 90 days of the publication date of the notice of initiation of the requested review. As noted above, Moadi withdrew its request for review. No other parties requested an administrative review of the order. Therefore, in accordance with 19 CFR 351.213(d)(1), we are rescinding this review in its entirety.

Assessment

Commerce will instruct U.S. Customs and Border Protection (CBP) to assess countervailing duties on all appropriate entries of solar products from China. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice of rescission of administrative review.

Administrative Protective Orders

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

Notification to Interested Parties

This notice is issued and published in accordance with sections 751(a)(1) and 777(i)(1) of the Tariff Act of 1930, as amended, and 19 CFR 351.213(d)(4).

Dated: August 3, 2020.
James Maeder,
Deputy Assistant Secretary for Antidumping and Countervailing Duty Operations.

[FR Doc. 2020-17186 Filed 8-5-20; 8:45 am]

BILLING CODE 3510-DS-P